DEPARTMENT OF COMMERCE

International Trade Administration

[A-580-809]

Circular Welded Non-Alloy Steel Pipe From the Republic of Korea: Extension of the Final Results of the Antidumping Duty Administrative Review

AGENCY: Import Administration, International Trade Administration, Department of Commerce.

DATES: Effective Date: March 22, 2011.

FOR FURTHER INFORMATION CONTACT: Matthew Jordan and Joshua Morris, AD/CVD Operations, Import Administration, International Trade Administration, U.S. Department of Commerce, 14th Street and Constitution Avenue, NW., Washington, DC 20230; telephone: (202) 482-1540 and (202) 482-1779, respectively.

Background

On December 14, 2010, the Department of Commerce (“the Department”) published its preliminary results of the antidumping duty administrative review of circular welded non-alloy steel pipe from the Republic of Korea, covering the period November 1, 2008, through October 31, 2009. See Circular Welded Non-Alloy Steel Pipe From the Republic of Korea: Preliminary Results of the Antidumping Duty Administrative Review, 75 FR 77838 (December 14, 2010) (“Preliminary Results”). Currently, the final results are due no later than April 13, 2011.

Extension of Time Limit for Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

The Department has determined that it requires additional time to complete this review. A significant issue has been raised after the Preliminary Results and the Department needs to allow time for parties to provide information on the issue, brief the issue, and provide rebuttal comments. Thus, it is not practicable to complete this review by April 13, 2011, and the Department is extending the time limit for completion of the final results by an additional 60 days to June 12, 2011, in accordance with section 751(a)(3)(A) of the Act. However, June 12, 2011, falls on a Sunday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the final results is now no later than June 13, 2011.

We are issuing and publishing this notice in accordance with sections 751(a)(3)(A) and 777(i) of the Act.

Dated: March 16, 2011.
Christian Marsh,
Deputy Assistant Secretary for Antidumping and Countervailing Duty Operations.

[FR Doc. 2011-6726 Filed 3-21-11; 8:45 am]

BILLING CODE 3510-DS-P